NUCLEAR REGULATORY COMMISSION

[Docket No. 50-255]

Nuclear Management Company, LLC; Palisades Nuclear Plant; Notice of Issuance of Renewed Facility Operating License No. DPR-20 for an Additional 20-Year Period; Record of Decision

Notice is hereby given that the U.S. Nuclear Regulatory Commission (the Commission) has issued Renewed Facility Operating License No. DPR-20 to Nuclear Management Company, LLC (licensee), the operator of the Palisades Nuclear Plant (PNP). Renewed Facility Operating License No. DPR-20 authorizes operation of PNP by the licensee at reactor core power levels not in excess of 2565.4 megawatts thermal in accordance with the provisions of the PNP renewed license and its Technical Specifications.

The notice also serves as the record of decision for the renewal of Facility Operating License No. DPR-20, consistent with 10 CFR 51.103 of the Commission's regulations. The factors considered in the Record of Decision can be found in the Supplemental Environmental Impact Statement (FSEIS) for PNP.

The PNP plant is a Pressurized Water Reactor located in Van Buren County, MI.

The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the new license was published in the Federal Register on June 8, 2005 (70 FR 33533). For further details with respect to this action, see:

(1) Nuclear Management Company, LLC's license renewal application for Palisades Nuclear Plant, dated March 22, 2005, as supplemented by letters dated through July 5, 2006; (2) the Commission's safety evaluation report (NUREG-1871), dated December 2006; (3) the licensee's updated safety analysis report; and (4) the Commission's final environmental impact statement (NUREG-1437, Supplement 27, for the Palisades Nuclear Plant, dated October 12, 2006). These documents are available at the NRC's Public Document Room, One White Flint North, 11555 Rockville Pike, Rockville, Maryland 20852, and can be viewed from the NRC Public Electronic Reading Room at http://www.nrc.gov/reading-rm/adams.html.

Copies of Renewed Facility Operating License No. DPR-20, may be obtained by writing to the U.S. Nuclear Regulatory Commission, Washington, DC 20555-0001, Attention: Director, Division of License Renewal. Copies of the Palisades Nuclear Plant Safety Evaluation Report (NUREG-1871) and the final environmental impact statement (NUREG-1437, Supplement 27) may be purchased from the National Technical Information Service, U.S. Department of Commerce, Springfield, Virginia 22161 (http://www.ntis.gov), (703) 605-6000, or from the U.S. Government Printing Office, Attention: Superintendent of Documents, P.O. Box 37082, Washington, DC 20402-9328 (http://www.gpoaccess.gov), (202) 512-1800. All orders should clearly identify the NRC publication number and the requestor's Government Printing Office deposit account number or VISA or MasterCard number and expiration date.

Dated at Rockville, Maryland, this 17th day of January, 2007.
For the Nuclear Regulatory Commission.
Pao-Tsin Kuo,
Acting Division Director, Division of License Renewal, Office of Nuclear Reactor Regulation.

[FR Doc. E7-972 Filed 1-23-07; 8:45 am]

BILLING CODE 7590-01-P